ENVIRONMENTAL PROTECTION AGENCY

[FRL-6991-3]

Agency Information Collection Activities: Submission for OMB Review; Comment Request; Recordkeeping and Reporting Requirements for Primary Aluminum Reduction Plants, Maximum Achievable Control Technology (MACT)

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Recordkeeping and Reporting Requirements for Primary Aluminum Reduction Plants, Maximum Achievable Control Technology (MACT)—40 CFR part 63, subpart LL; EPA ICR No. 1767.03; OMB Control No. 2060-0360; expiration date was December 31, 2000. The ICR describes the nature of the information collection and its expected burden and cost; where appropriate, it includes the actual data collection instrument.

DATES: Comments must be submitted on or before July 5, 2001.

ADDRESSES: Send comments, referencing EPA ICR No. 1767.03 to the following addresses: Sandy Farmer, U.S. Environmental Protection Agency, Collection Strategies Division (Mail Code 2822), 1200 Pennsylvania Avenue, NW., Washington, DC 20460-0001; and to the Office of Information and Regulatory Affairs, Office of Management and Budget (OMB), Attention: Desk Officer for EPA, 725 17th Street, NW., Washington, DC 20503.

FOR FURTHER INFORMATION: For a copy of the ICR contact Sandy Farmer at EPA by phone at (202) 260-2740, by email at farmer.sandy @epamail.epa.gov, or download off the Internet at http://www.epa.gov/icr and refer to EPA ICR No.1767.03. For technical questions about the ICR contact Maria Malavé at (202) 564-7027 or via E-mail to MALAVE.MARIA @EPAMAIL.EPA.GOV.

SUPPLEMENTARY INFORMATION: Title: Maximum Achievable Control Technology (MACT) Standards for Primary Aluminum Reduction Plants; 40 CFR part 63, subpart LL; EPA ICR No. 1767.03; OMB Control No. 2060-0360; expiration date was May 31, 2000. This is a reinstatement of a previously approved Information Collection Request.

Abstract: The MACT standards for this source category were proposed on September 26, 1996 and were promulgated on October 7, 1997. These standards apply to the owners or operators of new or existing potlines, paste production plants, or anode bake furnaces associated with primary aluminum production and located at a major source, and for each new pitch storage tank associated with a primary aluminum reduction plant.

In order to ensure compliance with the standards, adequate record-keeping and reporting is necessary. This information enables the Agency to identify the sources subject to the standard; ensure initial compliance with emission limits; and verify continuous compliance with the standard.

This rule requires written notification when: an area source increases its emissions such that it becomes a major source; the initial startup is before the effective date of the standard; the effective date of a new or reconstructed source is after the effective date of the standard, and for which an application for approval of construction or reconstruction is not required; there is an intent to construct a new major source or reconstruct a major source after the effective date of the standard, and for which an application for approval or construction or reconstruction is required; an initial performance test occurs; submitting an initial compliance status; an affected source intents to use a hydrogen fluoride (HF) continuous emission monitor; and submitting the compliance approach. In addition, sources are required to: submit results of performance tests; provide semiannual reports unless quarterly reports are required as a result of excess emissions; develop a startup, shutdown, and malfunction plan; and maintain records for a period of five years following the date of each occurrence, measurement, maintenance, corrective action report, or record.

All reports are sent to the delegated State or Local Agency. In the event that there is no such delegated authority, the reports are sent directly to the EPA Regional Office.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on December 31, 2000.

Burden Statement: The annual public reporting and recordkeeping burden for this collection of information is estimated to average 2,416 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners or operators of new or existing primary aluminum reduction facilities.

Estimated Number of Respondents: 23.

Frequency of Response: quarterly or semiannual.

Estimated Total Annual Hour Burden: 121,277.

Estimated Total Annualized Capital and Operating & Maintenance Cost Burden: $117,000.

Send comments on the Agency's need for this information, the accuracy of the provided burden estimates, and any suggested methods for minimizing respondent burden, including through the use of automated collection techniques to the addresses listed above. Please refer to EPA ICR No. 1767.03 and OMB Control No. 2060-0360 in any correspondence.

Dated: May 23, 2001.
Oscar Morales,
Director Collection Strategies Division.

[FR Doc. 01-13946 Filed 6-1-01; 8:45 am]

BILLING CODE 6560-50-U